DEPARTMENT OF HEALTH AND HUMAN SERVICES

Centers for Disease Control and Prevention

Disease, Disability, and Injury Prevention and Control Special Emphasis Panel: Cooperative Agreements for Centers of Excellence in Health Statistics, Program Announcement No. 02193

In accordance with section 10(a)(2) of the Federal Advisory Committee Act (Pub. L. 92-463), the Centers for Disease Control and Prevention (CDC) announces the following meeting:

Name: Disease, Disability, and Injury Prevention and Control Special Emphasis Panel (SEP): Cooperative Agreements for Centers of Excellence in Health Statistics, PA# 02193.

Times and Dates: 1 p.m.-1:30 p.m., September 5, 2002 (Open), 1:30 p.m.-5:30 p.m., September 5, 2002 (Closed).

Place: Teleconference number (800) 713-1971.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to PA# 02193.

CONTACT PERSON FOR MORE INFORMATION: Linda Blankenbaker, Program Specialist, National Center for Health Statistics, CDC, 6525 Belcrest Road, Room 1140, Hyattsville, Maryland 20782, (301) 458-4612.

The Director, Management Analysis and Services Office has been delegated the authority to sign Federal Register notices pertaining to announcements of meetings and other committee management activities, for both the Centers for Disease Control and Prevention and the Agency for Toxic Substances and Disease Registry.

Dated: August 6, 2002.
John Burckhardt,
Acting Director, Management Analysis and Services Office, Centers for Disease Control and Prevention (CDC).

[FR Doc. 02-20559 Filed 8-13-02; 8:45 am]

BILLING CODE 4160-18-P